DEPARTMENT OF HEALTH AND HUMAN SERVICES

Centers for Medicare & Medicaid Services

42 CFR Parts 403, 405, 410, 411, 414, 418, 424, 484, and 486

[CMS-1429-F2]

RIN 0938-AM90

Medicare Program; Revisions to Payment Policies Under the Physician Fee Schedule for Calendar Year 2005: Correcting Amendment

AGENCY: Centers for Medicare & Medicaid Services (CMS), HHS.

ACTION: Correcting amendment.

SUMMARY: This document corrects technical errors that appeared in the final rule with comment period published in the Federal Register on November 15, 2004 entitled “Revisions to Payment Policies Under the Physician Fee Schedule for Calendar Year 2005.”

DATES: Effective Date: This rule is effective January 1, 2005.

FOR FURTHER INFORMATION CONTACT: Diane Milstead, (410) 786-3355.

SUPPLEMENTARY INFORMATION:

I. Background

In FR Doc. 04-24758 of November 15, 2004 (69 FR 66236), there were a number of technical errors that we are identifying and correcting in the “Correction of Errors” section of this correcting amendment. Additionally, there are various revisions to Addenda B, C and F.

Discussion of Addenda B, C and F

In Addenda B and C, we assigned incorrect status indicators to the following CPT and HCPCS codes: Page 66429 for CPT codes 0066T and 0074T, page 66502 for CPT code 36415, page 66504 for CPT code 37195, pages 66682 and 66688 for HCPCS code G0363. We also assigned incorrect global periods for the following CPT and HCPCS codes: Page 66539 for CPT code 54150; pages 66638 and 66687 for CPT codes 91034, 91034-26, 91034-TC, 91035, 91035-26, 91035-TC, 91037, 91037-26, 91037-TC, 91038 91038-26, 91038-TC, 91040, 91040-26, 91040-TC; and pages 66682 and 66688 for G0350, G0354 and G0358. These corrections are reflected in section II.C.1 of this correcting amendment.

The short descriptors for the following HCPCS codes were listed incorrectly on page 66681: G0324, G0325, G0326 and G0327. The corrected descriptors are shown in section II.C.1 of this correcting amendment.

Incorrect practice expense relative value units (RVUs) were shown for the following CPT codes: Pages 66546 and 66685 for CPT code 58356; page 66557 for CPT codes 62367 and 62368; page 66614 for CPT code 77418; pages 66627 and 66686 for CPT codes 78811-26, 78812-26, 78813-26, 78814-26, 78815-26 and 78816-26; page 66629 for CPT code 88125 and 88125-TC; pages 66633 and 66687 for CPT codes 88367, 88367-TC, 88368, 88368-TC and 89220; and page 66665 for CPT code 96567. The corrected RVUS are shown in section II.C.2 of this correcting amendment.

On page 66666, we inadvertently included work and malpractice RVUs for acupuncture services, CPT codes 97810, 97811, 97813 and 97814 and there services are not covered by Medicare. We typically do not publish RVUs for services that Medicare does not cover. Instead, we list these services with “0.00's” in the RVU columns. This correction is reflected in section II.C.2 of this correcting amendment.

The following HCPCS codes were discussed on page 66308 of the rule but were inadvertently omitted from page 66683 of Addendum B: G9021, G9022, G9023, G9024, G0925, G9026, G9027, G9028, G9029, G9030, G09031 and G9032. The HCPCS codes are shown in section II.C.3 of this correcting amendment.

On page 66900, the title should be corrected to read “Addendum L.”

Discussion of Regulation Text Errors

In the regulation text we made technical omissions that should have been included in §§ 403.766, 414.39, and 424.80. The corrections are reflected in section II.B. of this correcting amendment.

II. Correction of Errors

In FR Doc. 02-37639 of November 15, 2004 (69 FR 66236), make the following corrections—

A. Correction of Preamble Errors

1. Under “For Further Information Contact” on page 66236, third column and on page 66237 in the first column make the following corrections:

Bill Larson (410) 786-4639 or Tiffany Sanders (410) 786-1948 for issues related to coverage of an initial preventive physical exam.

Joyce Eng (410) 786-4619 for issues related to coverage of cardiovascular screening tests.

Betty Shaw (410) 786-4165 for issues related to coverage of diabetes screening tests.

Steve Berkowitz (410) 786-0277 for issues related to coverage of routine costs associated with certain clinical trials.

Karen Daily (410) 786-0189 for issues related to clinical conditions for payment of covered items of durable medical equipment.

2. On page 66237, third column, start a new line after “Section VI. Five-Year Refinement of Relative Value Units” and before “Section VII. Update to the Codes for Physician Self-Referral Prohibition”.

3. In Table 2, “Equipment Items Needing Specialty Input for Pricing and Proposed Deletions”, on page 66252 under the column labeled “Commenter response”, the price referenced for neurobehavioral status instrument-average was listed incorrectly. This should be corrected to read “Submitted price of $13,635”.

4. In table 5 and table 7 on pages 66268 and 66270, we incorrectly used the specialty description “Osteopathic Manipulative Therapy.” This should be revised to read “Osteopathic Manipulative Medicine.”

5. On page 66306, first column, last sentence, in the response, we erroneously stated “Physicians should use HCPCS code G0352 for injections previously billed under CPT code 90783.” This is incorrect. This sentence should be corrected to read “Physicians should continue using CPT code 90783 when billing for an intra-arterial therapeutic or diagnostic injection.

6. On page 66369, in the first column, first paragraph, third sentence, “CRP codes” should be corrected to read “CPT codes” and in the first line of the second column, “work PVUs” should be corrected to read “work RVUs.”

7. On page 66385, the statutory formula that follows the first sentence in the third column did not print legibly. The referenced formula and information should read as follows:

UAF = Update Adjustment Factor.

Target04 = Allowed Expenditures for 2004 or $77.1 billion.

Actual04 = Estimated Actual Expenditures for 2004 = $84.9 billion.

Target 4/96-12/04 = Allowed Expenditures from 4/1/1996-12/31/2004 = $531.8 billion.

Actual 4/96-12/04 = Estimated Actual Expenditures from 4/1/1996-12/31/2003 = $545.5 billion.

SGR05 = 4.3 percent (1.043).

8. In the first column, second paragraph, second sentence on page 66404 we state “Payment in 2005 for G0351 (the comparable code) will be $125.69.” This should be corrected to read as follows “Payment in 2005 for G0357 (the comparable code) will be $125.69.”

9. On page 66408, the second column, the last sentence in the first full paragraph, the referenced estimate related to utilization growth for rheumatology is incorrectly stated as 9 percent. This should be corrected to read “would increase by 16 percent.”

10. On page 66412, third column, following table 46, line 4, the discussion concerning sections 303-304, the first complete sentence beginning “In addition, we are also paying a supplying fee * * *” is corrected to read as follows: “In addition, we are also paying a supplying fee of $50 for the initial immunosuppressive prescription in the first month after a beneficiary has a transplant and a per prescription supplying fee of $24 for each supplied immunosuppressive prescription thereafter and for each supplied oral anti-cancer and oral anti-emetic prescription.”

B. Correction of Regulation Text Errors

Accordingly, 42 CFR chapter IV is corrected by making the following correcting amendments to parts 403, 414, and 424:

PART 403—[CORRECTED]

1. The authority citation for part 403 continues to read as follows:

Authority: 42 U.S.C. 1359b-3 and secs. 1102 and 1871 of the Social Security Act (42 U.S.C. 1302 and 1395hh).

§ 403.766 [Corrected]

2. Section 403.766 is amended by revising paragraph (a) introductory text to read as follows:

§ 403.766 Requirements for coverage and payment of RNHCI home services.

(a) Medicare Part A pays for RNHCI home services if the RNHCI provider does the following:

* * * * *

PART 414—[CORRECTED]

3. The authority citation for part 414 continues to read as follows:

Authority: Secs. 1102, 1871, and 1881(b)(1) of the Social Security Act (42 U.S.C. 1302, 1395hh, and 1395rr(b)(1).

§ 414.39 [Corrected]

4. Section 414.39 is amended by revising paragraph(c)(1) to read as follows:

§ 414.39 Special rules for payment of care plan oversight.

* * * * *

(c) * * *

(1) An NPP can furnish physician care plan oversight (but may not certify a patient as needing home health services) only if the physician who signs the plan of care provides regular ongoing care under the same plan of care as does the NPP billing for care plan oversight and either—

* * * * *

PART 424—[CORRECTED]

5. The authority citation for part 424 continues to read as follows:

Authority: Secs. 1102 and 1871 of the Social Security Act (42 U.S.C. 1302 and 1395hh).

§ 424.80 [Corrected]

6. Section 424.80 is amended by revising paragraph (a) to read as follows:

§ 424.80 Prohibition of reassignment of claims by suppliers.

(a) Basic prohibition. Except as specified in paragraph (b) of this section, Medicare does not pay amounts that are due a supplier under an assignment to any other person under reassignment, power of attorney, or any other direct arrangement. Nothing in this section alters a party's obligations under the anti-kickback statute (section 1128B(b) of the Act), the physician self-referral prohibition (section 1877 of the Act), the rules regarding physician billing for purchased diagnostic tests (§ 414.50 of this chapter), the rules regarding payment for services and supplies incident to a physician's professional services (§ 410.26 of this chapter), or any other applicable Medicare laws, rules, or regulations.

* * * * *

C. Correction of Errors in the Addendum

1. In Addenda B and C, the following CPT and HCPCS codes are corrected to read as follows:

[BILLING CODE 4120-01-P]

2. In Addenda B and C, the following CPT and HCPCS codes are corrected to read as follows:

3. In Addendum B, the following HCPCS codes are included to read as follows:

III. Waiver of Proposed Rulemaking

We ordinarily publish a notice of proposed rulemaking in the Federal Register to provide a period for public comment prior to publication of a final notice. We can waive this procedure, however, if we find good cause that notice and comment procedure is impracticable, unnecessary, or contrary to the public interest and incorporate a statement of the finding and the reasons for it into the notice issued. In accordance with section 903 of the MMA, failure to retroactively apply the corrections would be contrary to the public interest.

We find it unnecessary to undertake notice and comment rulemaking because this notice merely provides technical corrections to the regulations. Therefore, we find good cause to waive notice and comment procedures.

(Catalog of Federal Domestic Assistance Program No. 93.774, Medicare—Supplementary Medical Insurance Program)
Dated: March 16, 2005.
Ann C. Agnew,
Executive Secretary to the Department.

[FR Doc. 05-6131 Filed 3-25-05; 8:45 am]

BILLING CODE 4120-01-C